DEPARTMENT OF COMMERCE

National Oceanic and Atmospheric Administration

50 CFR Part 600

[I.D. 082100A]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination to issue EFPs to conduct experimental fishing operations otherwise restricted by the regulations governing the fisheries of the Northeastern United States. A delegation of the City of Gloucester (Gloucester delegation) comprising State Representatives, the Mayor's Office, local industry members, the Gloucester Fisheries Commission, and the Massachusetts Fisheries Recovery Commission, requested the issuance of EFPs to conduct a 3-month pilot study beginning October 1, 2000. This request warrants further consideration. The EFPs would allow commercial vessels to enter into Gloucester Harbor with overages of haddock (Melanogrammus aeglefinus) to seek refuge from unsafe weather conditions. These vessels will be allowed to anchor or moor in Gloucester Harbor until the vessel operator determines that it is safe to continue fishing, or until they are within the allowed possession limit (5,000 pounds per day-at-sea (DAS)).

It is anticipated that participation in this program would be dictated by the following factors: the vessel owner's assessment of his or her vessel's ability to weather unsafe conditions (for example, wind or sea state), high catch rates of haddock preceding what is deemed by vessel operators as unsafe weather conditions, and the vessel's proximity to Gloucester Harbor.

Regulations under 50 CFR § 600.745 require publication of this notification to provide interested parties the opportunity to comment on the proposed experimental fisheries.

DATES: Comments on this notification must be received by September 13, 2000.

ADDRESSES: Written comments should be sent to Patricia A. Kurkul, Regional Administrator, NMFS, Northeast Regional Office, 1 Blackburn Drive, Gloucester, MA 01930. Mark the outside of the envelope "Comments on the EFP Proposal." Comments may also be sent via facsimile (fax) to (978) 281-9135. Comments will not be accepted if submitted via e-mail or the Internet.

FOR FURTHER INFORMATION CONTACT: Bonnie Van Pelt, Fishery Management Specialist, 978-281-9244.

SUPPLEMENTARY INFORMATION: In a meeting held on July 21, 2000, between representatives of the NMFS and the Gloucester delegation, a safety issue was identified through accounts by fishermen. In the haddock fishery, the landing limit for Georges Bank increases on October 1, a time when the chance of severe weather increases (presumably October through April). Fishermen indicate that vessels may quickly bring on board large quantities of haddock that exceed the landing limits as determined by actual multispecies days-at-sea (DAS) fished to that point. Since regulations do not allow vessels to enter port with catch overages, fishermen commonly wait at sea for the appropriate DAS time to expire to allow the full catch to be landed. While waiting at sea, unsafe weather conditions may develop. There have been a few past reports where fishermen stated that they were forced to discard excess haddock catch at sea in order to seek shelter in Gloucester Harbor from hazardous weather conditions and comply with landing regulations. To avoid discarding haddock, vessels may consider remaining at sea during unsafe weather conditions.

NMFS proposes to conduct a 3-month pilot study, beginning on October 1, 2000, that would allow, as determined by the vessel operator, a vessel fishing for haddock on Georges Bank to anchor or moor (not dock) in Gloucester Harbor, until the vessel operator determines that it is safe to resume fishing activities or land the allowed possession limit of haddock.

Upon his/her own determination that weather conditions are unsafe, the vessel operator will be required to contact the Gloucester Station of the United States Coast Guard (USCG) with his or her intention to move their vessel into Gloucester Harbor, and must then notify the USCG when they have set anchor at a safe location. Further notification is required when the vessel operator decides to return to sea, move to another location in the Harbor, or travel to another port to land haddock upon completion of the trip. While anchored in Gloucester Harbor to wait out hazardous weather conditions, vessels are prohibited from loading on or off fish, supplies or equipment, as well as any crew member. DAS will be counted during the entire trip, including the time that the vessel is anchored in the harbor. When, according to the daily haddock possession limit, the appropriate DAS time expires to allow the full catch of haddock to be landed, fishermen may dock and unload in Gloucester Harbor. Regardless, nothing in this EFP authorizes vessels to land anything over the 5,000-pound per DAS landing limit.

This pilot study may be extended 3 months beyond the initial 3-month term should it prove successful in providing a safe option for vessels concerned about carrying haddock overages, while remaining conservation neutral to the resource (i.e., neither benefitting nor harming the resource). Despite the fact that the notification procedures may be burdensome, these controls are necessary to maintain enforceability and to collect data on the extent of success of the study.

Due to the unpredictable nature of the weather and of other variables involved, it is difficult to assess the numbers of vessels that will need to utilize the EFP to enter into Gloucester Harbor until safe weather conditions resume. This program is not expected to encourage new effort in the haddock fishery, and it will not create incentives to fish under unsafe conditions. It provides a mechanism for vessels to fish safely on Georges Bank, without forfeiting overages of haddock when entering Gloucester Harbor during times of foul weather.

EFPs would be issued to all limited access multispecies permit holders in accordance with the conditions stated therein, and would exempt them from the provision in the Northeast Multispecies Fishery Management Plan that prevents them from entering port (part of the definition of 'land' in § 648.2) with haddock in excess of the possession limit described in § 648.86.

Authority: 16 U.S.C. 1801 et seq.

Dated: August 24, 2000.
Bruce C. Morehead,
Acting Director, Office of Sustainable Fisheries, National Marine Fisheries Service.

[FR Doc. 00-22068 Filed 8-28-00; 8:45 am]

Billing Code: 3510-22 -S